DEPARTMENT OF COMMERCE

Economic Development Administration

Submission for OMB Review; Comment Request; Agency Information Collection Activities; Submission to the Office of Management and Budget (OMB) for Review and Approval; Comment Request; Indigenous Communities Survey & Interview Collection Instruments

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on March 29, 2024 during a 60-day comment period. This notice allows for an additional 30 days for public comments.

Agency: Economic Development Administration (EDA), Commerce.

Title: Indigenous Communities Survey & Interview Collection Instruments.

OMB Control Number: New information collection.

Form Number(s): None yet determined; new information collection.

Type of Request: Regular submission.

Estimated Number of Respondents and Frequency: A total of 150 respondents will complete a survey. Additional phone interviews will be conducted with a subset of 20 survey respondents. The proposed information collection will be conducted once. As the Community of Practice and Research Challenge to Support Indigenous Communities is a new cooperative agreement, EDA anticipates that these estimates will be further refined based on data generated completed survey respondents.

Estimated Average Hours per Response: Half an hour (30 minutes) for the electronic survey and 1 hour for each phone interview.

Estimated Burden Hours: 75 hours for the electronic survey and 20 hours for the phone interviews.

Needs and Uses: To effectively administer and monitor its economic development assistance programs, EDA collects certain information from applications for, and recipients of, EDA investment assistance. The purpose of this notice is to seek comments from the public and other Federal agencies on a request for a new information collection for recipients of awards under the EDA American Rescue Plan Act (ARPA) Statewide Planning, Research, and Networks, and Economic Development Research and Evaluation (R&E) and National Technical Assistance (NTA) programs.

The proposed information collection will employ an innovative mixed methods approach to gather traditional metrics in addition to qualitative data on Indigenous or Indigenous-serving projects. An annual survey will be sent to Indigenous or Indigenous serving grantees from 2019-2023 resulting in factsheets and reports that will help inform economic development policy, economic decision-making, and economic best practices.

The collection will explore several thematic areas for Indigenous communities, each based on the following research questions:

1. How has EDA funded Indigenous-serving projects and what are the characteristics of these projects relative to applications from Indigenous entities;

2. What factors relate to project implementation and outputs for awards to Indigenous applicants and for Indigenous-serving projects;

3. How did the structure of the Indigenous Communities funding program influence applicants and award decisions relative to Indigenous applicants to other funding programs; and

4. How do grant rates influence applications from Indigenous entities and applications from Indigenous-serving organizations with projects benefitting Indigenous communities;

With each of these categories of questions, organized by thematic area and noted above, there will be a focus on learning about the economic development needs, planning, and priorities of Indigenous communities.

Respondents will answer questions related to the following:

• Community characteristics;

• Economic development characteristics, priorities, challenges;

• Economic development funding sources;

• Match funding; and

• If applicable, the Indigenous Communities grant program.

The collection instrument also includes questions related to the overall programmatic experience.

Affected Public: This survey will specifically target EDA applicants for projects that are Indigenous and Indigenous serving. Entities may include (i) District Organization of an EDA-designated Economic Development District (EDD); (ii) Indian Tribe or a consortium of Indian Tribes; (iii) State, county, city, or other political subdivision of a State, including a special purpose unit of a State or local government engaged in economic or infrastructure development activities, or a consortium of political subdivisions; (iv) institution of higher education or a consortium of institutions of higher education; or (v) public or private non-profit organization or association acting in cooperation with officials of a general purpose political subdivision of a State.

Respondent's Obligation: Voluntary.

Legal Authority: The Public Works and Economic Development Act of 1965 (42 U.S.C. 3121 et seq.).

This information collection request may be viewed at reginfo.gov. Follow the instructions to view Department of Commerce collections currently under review by OMB.

Written comments and recommendations for the proposed information collection should be submitted within 30 days of the publication of this notice on the following website www.reginfo.gov/public/do/PRAMain. Find this particular information collection by selecting “Currently under 30-day Review—Open for Public Comments.”

Sheleen Dumas,
Department PRA Clearance Officer, Office of the Under Secretary for Economic Affairs, Commerce Department.

[FR Doc. 2024-12769 Filed 6-10-24; 8:45 am]

BILLING CODE 3510-34-P